DEPARTMENT OF HOUSING AND URBAN DEVELOPMENT

[Docket No. FR-4950-C-03A]

Notice of HUD's Fiscal Year (FY) 2005 Notice of Funding Availability Policy Requirements and General Section to SuperNOFA for HUD's Discretionary Grant Programs; Community Development Technical Assistance NOFA; Competition Reopening Announcement

AGENCY: Office of the Assistant Secretary for Community Planning and Development, HUD.

ACTION: Super Notice of Funding Availability (SuperNOFA) for HUD Discretionary Grant Programs; Community Development Technical Assistance (CD-TA) NOFA; competition reopening announcement.

SUMMARY: On March 21, 2005, HUD published its Fiscal Year (FY) 2005, Notice of Funding Availability (NOFA) Policy Requirements and General Section to the SuperNOFA for HUD's Discretionary Grant Programs. The CD-TA NOFA competition, which was included in the SuperNOFA, closed on June 1, 2005. This document announces the reopening of the CD-TA NOFA competition.

DATES: The new application submission date for the CD-TA is October 13, 2005.

FOR FURTHER INFORMATION CONTACT: Ms. Phyllis Shanks, Office of Community Planning and Development, Department of Housing and Urban Development, 451 Seventh Street, SW., Room 7218, Washington, DC 20410-7000; telephone 202-708-3176, extension 4626 (this is not a toll-free number). Persons with speech or hearing impairments may access this number via TTY by calling the toll-free Federal Information Relay Service at 800-877-8339.

SUPPLEMENTARY INFORMATION: On March 21, 2005 (70 FR 13575), HUD published its FY2005 SuperNOFA. The CD-TA, which was included in the SuperNOFA, made available approximately $30.1 million in HUD assistance. According to the SuperNOFA, the application submission date for the CD-TA NOFA was June 1, 2005. On May 11, 2005 (70 FR 24835), HUD published additional guidance to the General Section, which included a link to Frequently Asked Questions, located at http://www.grants.gov/ForApplicants#. Frequently asked questions can also be found on the HUD Web site at http://www.hud.gov/offices/adm/grants/egrants/grantsgovfaqs.pdf.

For the FY2005 CD-TA competition, HUD noted a significant decrease from previous funding competitions in the number of CD-TA applications submitted. The decrease also demonstrated a considerable reduction in the geographic diversity of applications. HUD understands that many eligible applicants may have had difficulty submitting their applications. Therefore, in order to give all NOFA applicants sufficient time to submit completed applications and ensure Grants.gov registration is complete, this notice published in today's Federal Register reopens the CD-TA NOFA competition. The new application submission date for the CD-TA NOFA competition is October 13, 2005.

Applicability of SuperNOFA General Section and CD-TA NOFA Requirements to Reopened Competition

Please note that the CD-TA NOFA competition description, application submission information, and application review information were published in the FY2005 SuperNOFA on March 21, 2005 (70 FR 13575). All requirements listed in the SuperNOFA General Section and in the CD-TA NOFA are applicable to this reopened competition except for those requirements explicitly changed by this notice (such as the due date and requirement for electronic submission).

Submission Instructions

If you have already submitted an application electronically through Grants.gov, you do not need to resubmit another application. If you submitted a paper application, however, without first obtaining a waiver from the electronic submission requirement, you must resubmit your application electronically or by paper submission. For the competition reopening, a waiver will not be required for paper submission, however electronic submissions are the preferred method.

An applicant that has already submitted its application does not need to resubmit another application. However, if an applicant chooses to make any changes to an application that has already been submitted, it must download a new application from Grants.gov, complete the application, and resubmit by the new deadline date. For the purpose of rating and ranking, HUD will review the most recent application and disregard any previously submitted application. If an applicant decides to resubmit an application, the newly submitted application must be complete. HUD will not accept partial amendments to applications that were previously submitted.

Applicants are encouraged to submit their applications through Grants.gov as described in the SuperNOFA. In addition, for this FY2005 reopened funding opportunity, an applicant may submit a paper application without requesting a waiver from this requirement. HUD does not intend to accept paper applications in the future without a waiver.

An applicant that chooses to submit a paper application must submit an original and two copies to: HUD Headquarters; Robert C. Weaver Federal Building; 451 Seventh Street, SW., Room 7218; Washington, DC 20410, Attention: CD-TA.

As described in section IV.F.5.b of the General Section, an applicant submitting a paper application must use the United States Postal Service (USPS) to submit its application to HUD. An applicant must take its application to a post office to get a receipt of mailing that provides the date and time the package was submitted to the USPS. USPS rules now require that large packages must be brought to a postal facility for mailing. In many areas, the USPS has made a practice of returning to the sender, large packages that have been dropped in a mail collection box. Paper copy applications submitted to the USPS by the submission date and time and received by HUD no later than 15 days after the established submission date will receive funding consideration. If the USPS does not have a receipt with a digital time stamp, HUD will accept a receipt showing USPS Form 3817, Certificate of Mailing with a dated postmark. The proof of submission receipt provided by the Postal Service must show receipt no later than the application submission deadline. An applicant whose application is determined to be late, that cannot furnish HUD with a receipt from the USPS that verifies the package was submitted to the USPS prior to the submission due date and time will not receive funding consideration. An applicant may use any type of mail service provided by the USPS to have their application package delivered to HUD in time to meet the submission requirements.

HUD will not accept hand delivery of applications.

Dated: September 6, 2005.
Pamela H. Patenaude,
Assistant Secretary for Community Planning and Development.

[FR Doc. E5-4971 Filed 9-12-05; 8:45 am]

BILLING CODE 4210-27-P